Title 3—

The President

Memorandum of April 22, 2019

Combating High Nonimmigrant Overstay Rates

Memorandum for the Secretary of State[,] the Attorney General[, and] the Secretary of Homeland Security

By the authority vested in me as President by the Constitution and the laws of the United States of America, including the Immigration and Nationality Act (INA), 8 U.S.C. 1101 et seq., and section 301 of title 3, United States Code, it is hereby ordered as follows:

Section 1. Policy. (a) My Administration is committed to securing the borders of the United States and fostering respect for the laws of our country, both of which are cornerstones of our Republic. Nonimmigrant visa (visa) overstay rates are unacceptably high for nationals of certain countries. Aliens must abide by the terms and conditions of their visas for our immigration system to function as intended. Although the United States benefits from legitimate nonimmigrant entry, individuals who abuse the visa process and decline to abide by the terms and conditions of their visas, including their visa departure dates, undermine the integrity of our immigration system and harm the national interest.

(b) The large numbers of aliens who overstay their period of lawful admission, failing to comply with the terms of a visa or the Visa Waiver Program, place significant strain on Department of Justice and Department of Homeland Security resources, which are currently needed to address the national emergency on our southern border.

Sec. 2. Addressing High Visa Overstay Rates. (a) The Secretary of State shall engage with the governments of countries with a total overstay rate greater than 10 percent in the combined B-1 and B-2 nonimmigrant visa category based on the Department of Homeland Security Fiscal Year 2018 Entry/Exit Overstay Report. This engagement should identify conditions contributing to high overstay rates among nationals of those countries and methods to address those conditions.

(b) Within 120 days of the date of this memorandum, the Secretary of State, in consultation with the Attorney General and the Secretary of Homeland Security, shall provide to the President recommendations to reduce B-1 and B-2 nonimmigrant visa overstay rates from the identified countries. With respect to any of the identified countries, the recommendations may include, as appropriate and to the extent consistent with applicable law, a proclamation, relying on authorities such as sections 212(f) and 215 of the INA (8 U.S.C. 1182(f) and 1185(a)), suspending or limiting entry of nationals of those countries who hold B-1 or B-2 visas; targeted suspension of visa issuance for certain nationals; limits to duration of admission, to be implemented by the Department of Homeland Security; and additional documentary requirements.

(c) The Secretary of State and the Secretary of Homeland Security shall immediately begin taking all appropriate actions that are within the scope of their respective authorities to reduce overstay rates for all classes of nonimmigrant visas.

(d) Within 180 days of the date of this memorandum, the Secretary of Homeland Security shall provide to the President a summary of the Department of Homeland Security's ongoing efforts to reduce overstays from countries participating in the Visa Waiver Program, to include any recommendations for additional action necessary and appropriate to ensure the integrity and security of that Program.

Sec. 3. Admission Bonds. The Secretary of State and the Secretary of Homeland Security shall take steps to develop measures required for imposing admission bonds as a means for improving compliance with the terms and conditions of nonimmigrant visas. The Secretaries shall provide a status report to the President within 120 days of the date of this memorandum.

Sec. 4. General Provisions. (a) Nothing in this memorandum shall be construed to impair or otherwise affect:

(i) the authority granted by law to an executive department or agency, or the head thereof;

(ii) the functions of the Director of the Office of Management and Budget relating to budgetary, administrative, or legislative proposals; or

(iii) existing rights or obligations under international agreements.

(b) This memorandum shall be implemented consistent with applicable law and subject to the availability of appropriations.

(c) This memorandum is not intended to, and does not, create any right or benefit, substantive or procedural, enforceable at law or in equity by any party against the United States, its departments, agencies, or entities, its officers, employees, or agents, or any other person.

Sec. 5. The Secretary of State is hereby authorized and directed to publish this memorandum in the Federal Register.

THE WHITE HOUSE,

Washington, April 22, 2019

[FR Doc. 2019-09470

Filed 5-6-19; 8:45 am]

Billing code 4710-10-P